DEPARTMENT OF THE INTERIOR

Request for Nominations for the Invasive Species Advisory Committee

AGENCY: National Invasive Species Council, Office of the Secretary, Interior.

ACTION: Request for nominations.

SUMMARY: The U.S. Department of the Interior, on behalf of the interdepartmental National Invasive Species Council (NISC), proposes to appoint new members to the Invasive Species Advisory Committee (ISAC). The Secretary of the Interior, acting as administrative lead, is requesting nominations for qualified persons to serve as members of the ISAC.

DATES: Nominations must be postmarked by November 30, 2015.

ADDRESSES: Nominations should be sent to Jamie K. Reaser, Executive Director, National Invasive Species Council (OS/NISC), Regular/Express Mail: 1849 C Street NW. (Mailstop 3530), Washington, DC 20240.

FOR FURTHER INFORMATION CONTACT: Kelsey Brantley, Program Specialist and ISAC Coordinator, at (202) 208-4122, fax: (202) 208-4118, or by email at Kelsey_Brantley@ios.doi.gov.

SUPPLEMENTARY INFORMATION:

Advisory Committee Scope and Objectives

Executive Order (EO) 13122 authorized the National Invasive Species Council (NISC) to provide interdepartmental coordination, planning, and leadership for the Federal Government on the prevention, eradication, and control of invasive species. NISC is currently comprised of thirteen Federal Departments and Agencies. The Co-chairs of NISC are the Secretaries of the Interior, Agriculture, and Commerce. The Invasive Species Advisory Committee (ISAC) advises NISC. NISC is requesting nominations for individuals to serve on the ISAC.

NISC provides high-level interdepartmental coordination of Federal invasive species actions and works with other Federal and non-Federal groups to address invasive species issues at the national level. NISC duties, as outlined in EO 13112 are to: Oversee implementation of EO 13112, while working to ensure that the Federal agency activities concerning invasive species are coordinated, complementary, cost-efficient, and effective; encourage planning and action at local, tribal, state, regional, and ecosystem-based level to achieve strategic goals; develop recommendations for international cooperation; work with the Council on Environmental Quality (CEQ) to develop guidance to Federal Agencies pursuant to the National Environmental Policy Act (NEPA); facilitate development of a coordinated network among Federal Agencies to document, evaluate, and monitor invasive species impacts; and prepare, issue (implement), and update a National Invasive Species Management Plan (Management Plan).

ISAC is chartered under the Federal Advisory Committee Act (FACA; 5 U.S.C. App. 2). At the request of NISC, ISAC provides advice to NISC member Departments and Agencies on topics related to NISC's aforementioned duties. As a multi-stakeholder advisory committee, ISAC is intended to play a key role in recommending plans and actions to be taken at local, tribal, State, regional, and ecosystem-based levels to achieve the goals and objectives of the Management Plan. It is hoped that, collectively, ISAC will represent the views of the broad range of individuals and communities knowledgeable of and affected by invasive species.

Prospective members of ISAC need to have substantial expertise in the prevention, eradication, and/or control of invasive species, as well as to demonstrate a high degree of capacity for: advising individuals in leadership positions, team work, project management, tracking relevant Federal government programs and policy making procedures, and networking with and representing their peer-community of interest. ISAC members need not be scientists. Membership from a wide range of disciplines and professional sectors is encouraged. At this time, we are particularly interested in applications from representatives of tribes, states, non-governmental organizations, the private sector, and large-scale land management entities (urban and rural).

After consultation with the other members of NISC, the Secretary of the Interior will appoint members to ISAC. NISC will select members based on their individual qualifications, as well as the overall need to achieve a balanced representation of viewpoints, subject matter expertise, regional knowledge, and representation of communities of interests. ISAC member terms are limited to three (3) years from their date of appointment to ISAC. Following completion of their first term, an ISAC member may request consideration for reappointment to an additional term. Reappointment is not guaranteed.

Typically, the ISAC meets twice per year (spring and fall). Between these meetings, ISAC members are expected to participate in committee work via conference calls and email exchanges. Members of the ISAC and its subcommittees serve without pay. However, while away from their homes or regular places of business in the performance of services of the ISAC, members may be reimbursed for travel expenses, including per diem in lieu of subsistence, in the same manner as persons employed intermittently in the government service, as authorized by section 5703 of title 5, United States Code. Employees of the Federal Government ARE NOT eligible for nomination or appointment to ISAC. Individuals who are federally registered lobbyists are ineligible to serve on all FACA and non-FACA boards, committees, or councils in an individual capacity. The term “individual capacity” refers to individuals who are appointed to exercise their own individual best judgment on behalf of the government, such as when they are designated Special Government Employees, rather than being appointed to represent a particular interest.

Nominations should include a resume providing an adequate description of the nominee's qualifications, including information that would enable the Department of the Interior to make an informed decision regarding meeting the membership requirements of the Committee and permit the Department of the Interior to contact a potential member.

Any interested person or entity may nominate one or more qualified individuals for membership on the ISAC. Self-nominations are also accepted. Persons or entities submitting nomination packages on the behalf of others must confirm that the individual(s) is/are aware of their nomination. Nominations must be postmarked no later than November 30, 2015 to Jamie K. Reaser, Executive Director, National Invasive Species Council (OS/NISC), Regular Mail: 1849 C Street NW. (MS 3530), Washington, DC 20240.

Dated: September 23, 2015.
Jamie K. Reaser,
Executive Director, Native Invasive Species Council.

[FR Doc. 2015-24818 Filed 9-29-15; 8:45 am]

BILLING CODE 4334-63-P